ENVIRONMENTAL PROTECTION AGENCY

[EPA-HQ-OAR-2013-0246; FRL-9964-43-OAR]

Proposed Information Collection Request; Comment Request; Engine Emission Defect Information Reports and Voluntary Emission Recall Reports

AGENCY: Environmental Protection Agency (EPA).

ACTION: Notice.

SUMMARY: The Environmental Protection Agency is planning to submit an information collection request (ICR), “Engine Emission Defect Information Reports and Voluntary Emission Recall Reports” (EPA ICR Number 0282.16, OMB Control Number 2060-0048) to the Office of Management and Budget (OMB) for review and approval in accordance with the Paperwork Reduction Act. Before doing so, EPA is soliciting public comments on specific aspects of the proposed information collection as described below. This is a proposed extension of the ICR, which is currently approved through November 30, 2016. An Agency may not conduct or sponsor and a person is not required to respond to a collection of information unless it displays a currently valid OMB control number.

DATES: Comments must be submitted on or before August 28, 2017.

ADDRESSES: Submit your comments, referencing the Docket ID No. EPA-HQ-OAR-2013-0246, online using www.regulations.gov (our preferred method), by email to a-and-r-Docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Nydia Yanira Reyes-Morales, Environmental Protection Agency, 1200 Pennsylvania Avenue NW., Mail Code 6405A, Washington, DC 20460; telephone number: 202-343-9264; fax number: 202-343-2804; email address: reyes-morales.nydia@epa.gov.

SUPPLEMENTARY INFORMATION:

Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: For this ICR, EPA is seeking a revision to an existing package with a three-year extension. Under the provisions of the Clean Air Act (CAA), the Administrator is required to promulgate regulations to control air pollutant emissions from motor vehicles and nonroad engines, as defined in the CAA. Per Sections 207(c)(1) and 213 of the CAA, when a substantial number of properly maintained and used engines produced by a manufacturer do not conform to emission standards, the manufacturer is required to recall the engines. Engine manufacturers are required to submit Defect Information Reports (DIRs) if emission-related defects that may cause the engines' emissions to exceed the standards are found on a number of engines of the same model year. EPA uses these reports to target potentially nonconforming classes of engines for future testing, to monitor compliance with applicable regulations and to order a recall, if necessary. Manufacturers can also initiate a recall voluntarily by submitting a Voluntary Emission Recall Report (VERR). VERRs and VERR updates allow EPA to determine whether the manufacturer conducting the recall is acting in accordance with the CAA and to examine and monitor the effectiveness of the recall campaign.

Forms: 5900-300 (Voluntary Emissions Recall Report); 5900-301 (Emissions Defect Information Report); and 5900-302 (Voluntary Emission Recall Quarterly Progress Report). These forms are available at https://www.epa.gov/vehicle-and-engine-certification/report-forms-and-guidance-defects-and-recalls-under-40-cfr-part-85.

Respondents/affected entities: Manufacturers of heavy-duty highway and nonroad engines.

Respondent's obligation to respond: Mandatory under 40 CFR parts 85, 89, 90, 91, 92, 94, 1035, 1039, 1042, 1045, 1048, 1051, 1054, and 1068.

Estimated number of respondents: 40 (total).

Frequency of response: Quarterly.

Total estimated burden: 15,084 hours (per year). Burden is defined at 5 CFR 1320.03(b).

Total estimated cost: $1,042,252 (per year), includes $9,800 annualized capital or operation & maintenance costs.

Changes in estimates: To date, there are no changes in the total estimated respondent burden compared with the ICR currently approved by OMB. However, EPA is evaluating information that may lead to a change in the estimates. After EPA has evaluated this information, burden estimates may slightly decrease due to the fact that EPA has received fewer applications for certification of Category 3 engine families than previously estimated. Cost estimates may increase due to inflation and labor rate changes.

Dated: June 22, 2017.
Byron J. Bunker,
Director, Compliance Division, Office of Transportation and Air Quality, Office of Air and Radiation.

[FR Doc. 2017-13661 Filed 6-28-17; 8:45 am]

BILLING CODE 6560-50-P